DEPARTMENT OF COMMERCE

National Oceanic and Atmospheric Administration

Evaluation of State Coastal Management Programs and National Estuarine Research Reserves

AGENCY: Office of Ocean and Coastal Resource Management, National Ocean Service, National Oceanic and Atmospheric Administration (NOAA), DOC.

ACTION: Notice of intent to evaluate and notice of availability of final evaluation findings.

SUMMARY: The NOAA Office of Ocean and Coastal Resource Management (OCRM) announces its intent to evaluate the performance of the Alabama Coastal Management Program and the Weeks Bay National Estuarine Research Reserve, Alabama. The Coastal Zone Management Program evaluation will be conducted pursuant to section 312 of the Coastal Zone Management Act of 1972, as amended, (CZMA) and regulations at 15 CFR part 923, subpart L. The National Estuarine Research Reserve evaluation will be conducted pursuant to sections 312 and 315 of the CZMA and regulations at 15 CFR part 921, subpart E and part 923, subpart L.

The CZMA requires continuing review of the performance of states With respect to coastal program implementation. Evaluation of Coastal Zone Management Programs and National Estuarine Research Reserves requires findings concerning the extent to which a State has met the national objectives, adhered to its Coastal Management Program document or Reserve final management plan approved by the Secretary of Commerce, and adhered to the terms of financial assistance awards funded under the CZMA.

The evaluations will include a site visit, consideration of public comments, and consultations with interested Federal, State and local agencies and members of the public. Public meetings will be held as part of the site visits.

Notice is hereby given of the dates of the site visits for the listed evaluations, and the dates, local times, and locations of the public meetings during the site visits.

The Alabama Coastal Management Program evaluation site visit will be held December 8-12, 2003. One public meeting will be held during the week. The public meeting will be on Wednesday, December 10, 2003, from 6 p.m. to 7 p.m., in the Killian Room, International Trade Center, 250 North Water Street, Mobile, Alabama.

The Weeks Bay National Estuarine Research Reserve evaluation site visit will be held December 8-12, 2003. One public meeting will be held during the week. The public meeting will be on Thursday, December 11, 2003, from 5 p.m. to 6 p.m., at the Interpretive Center Auditorium, Weeks Bay National Estuarine Research Reserve, 11300 U.S. Highway 98, Fairhope, Alabama.

Copies of States' most recent performance reports, as well as OCRM's notifications and supplemental request letters to the States, are available upon request from OCRM. Written comments from interested parties regarding these Programs are encouraged and will be accepted until 15 days after the last public meeting. Please direct written comments to Ralph Cantral, Chief, National Policy and Evaluation Division, Office of Ocean and Coastal Resource Management, NOS/NOAA, 1305 East-West Highway, 10th Floor, Silver Spring, Maryland 20910. When the evaluations are completed, OCRM will place a notice in the Federal Register announcing the availability of the Final Evaluation Findings.

Notice is hereby given of the availability of the final evaluation findings for the Delaware, Hawaii, Louisiana, Michigan, Mississippi, and Pennsylvania Coastal Management Programs (CMPs); and the Ace Basin (South Carolina), Delaware (Delaware), and Jobos Bay (Puerto Rico) National Estuarine Research Reserves (NERRs). Sections 312 and 315 of the Coastal Zone Management Act of 1972 (CZMA), as amended, require a continuing review of the performance of coastal states with respect to approval of coastal management programs, and the operation and management of NERRs.

The states of Delaware, Hawaii, Louisiana, Michigan, Mississippi, and Pennsylvania were found to be implementing and enforcing their federally approved coastal management programs, addressing the national coastal management objectives identified in CZMA Section 303(2)(A)-(K), and adhering to the programmatic terms of their financial assistance awards. Delaware and Ace Basin NERRs were found to be adhering to programmatic requirements of the NERR System. Jobos Bay NERR was found to be not fully adhering to the programmatic requirements of the NERR System.

Copies of these final evaluation findings may be obtained upon written request from: Ralph Cantral, Chief, National Policy and Evaluation Division, Office of Ocean and Coastal Resource Management, NOS/NOAA, 1305 East-West Highway, 10th Floor, Silver Spring, Maryland 20910, or Ralph.Cantral@noaa.gov, (301) 713-3155, extension 118.

FOR FURTHER INFORMATION CONTACT: Ralph Cantral, Chief, National Policy and Evaluation Division, Office of Ocean and Coastal Resource Management, NOS/NOAA, 1305 East-West Highway, 10th Floor, Silver Spring, Maryland 20910, (301) 713-3155, extension 118.

(Federal Domestic Assistance Catalog 11.419 Coastal Zone Management Program Administration)

Dated: October 16, 2003.
Richard W. Spinrad,
Assistant Administrator for Ocean Services and Coastal Zone Management.

[FR Doc. 03-26777 Filed 10-22-03; 8:45 am]

BILLING CODE 3510-08-P